ENVIRONMENTAL PROTECTION AGENCY

[FRL-12326-01-R6]

Clean Air Act Operating Permit Program; Order on Petition for Objection to State Operating Permit for the Nucor Steel Louisiana, LLC, Direct Reduced Iron Facility, St. James Parish, Louisiana

AGENCY: Environmental Protection Agency (EPA).

ACTION: Notice of final order on petition.

SUMMARY: The Environmental Protection Agency (EPA) Administrator signed an order dated September 27, 2024, granting in part and denying in part a Petition dated December 4, 2023, from the Myrtle Felton, Barbara Washington, Gail Leboeuf, Inclusive Louisiana, and Louisiana Bucket Brigade (the Petitioners). The Petition requested that the EPA object to a Clean Air Act (CAA) title V operating permit issued by the Louisiana Department of Environmental Quality (LDEQ) to Nucor Steel Louisiana, L.L.C., Direct Reduced Iron (DRI) Facility, located in Covent, St. James Parish, Louisiana.

FOR FURTHER INFORMATION CONTACT: Elizabeth Layton, EPA Region 6 Office, Air Permits Section, (214) 665-2136, layton.elizabeth@epa.gov. The final order and petition are available electronically at: https://www.epa.gov/title-v-operating-permits/title-v-petition-database.

SUPPLEMENTARY INFORMATION: The EPA received a petition from Myrtle Felton, Barbara Washington, Gail Leboeuf, Inclusive Louisiana, and Louisiana Bucket Brigade dated December 4, 2023, requesting that the EPA object to the issuance of operating permit no. No. 3086-V10, issued by LDEQ to the Nucor Steel Louisiana, L.L.C., DRI Facility in St. James Parish, Convent, Louisiana. On September 27, 2024, the EPA Administrator issued an order granting in part and denying in part the Petition. The order explains the basis for the EPA's decision.

Sections 307(b) and 505(b)(2) of the CAA provide that a petitioner may request judicial review of those portions of an order that deny issues in a petition. Any petition for review shall be filed in the United States Court of Appeals for the appropriate circuity no later than December 23, 2024.

Dated: October 16, 2024.
David Garcia,
Director, Air and Radiation Division, Region 6.

[FR Doc. 2024-24366 Filed 10-21-24; 8:45 am]

BILLING CODE 6560-50-P